DEPARTMENT OF COMMERCE

National Oceanic and Atmospheric Administration

Availability of Seats for the Stellwagen Bank National Marine Sanctuary Advisory Council

AGENCY: National Marine Sanctuary Program (NMSP), National Ocean Service (NOS), National Oceanic and Atmospheric Administration, Department of Commerce (DOC).

ACTION: Notice and request for applications.

SUMMARY: The Stellwagen Bank National Marine Sanctuary (SBNMS or Sanctuary) is seeking applicants for the following vacant seats on its Sanctuary Advisory Council (Council): Conservation (Alternate) and At-Large (Member). Applicants are chosen based upon their particular expertise and experience in relation to the seat for which they are applying; community and professional affiliations; philosophy regarding the protection and management of marine resources; and possibly the length of residence in the area affected by the Sanctuary. Applicants who are chosen as members should expect to serve two-year terms, pursuant to the Council's Charter.

DATES: Applications are due by August 15, 2006.

ADDRESSES: Application kits may be obtained from Ruthetta.Halbower@noaa.gov, 175 Edward Foster Road, Scituate, MA 02066. Telephone 781-545-8026 X201. Completed applications should be sent to the same address.

FOR FURTHER INFORMATION CONTACT: Nathalie Ward, SAC Coordinator 175 Edward Foster Road, Scituate, MA 02066 nathalie.ward@noaa.gov Tel: 781-545-8026.

SUPPLEMENTARY INFORMATION: The Stellwagen Bank National Marine Sanctuary Advisory Council was established in March 2001 to assure continued public participation in the management of the Sanctuary. Serving in a volunteer capacity, the Advisory Council's 21 voting members represent a variety of local user groups, as well as the general public, plus seven local, state and federal government jurisdictions. Since its establishment, the Advisory Council has played a vital role in advising the Sanctuary and NOAA on critical issues and is currently focused on the sanctuary's development of a new 5-year management plan.

The Stellwagen Bank National Marine Sanctuary encompasses 842 square miles of ocean, stretching between Cape Ann and Cape Cod. Renowned for its scenic beauty and remarkable productivity, the sanctuary supports a rich diversity of marine life including marine mammals, more than 30 species of seabirds, over 100 species of fishes, and hundreds of marine invertebrates and plants.

Authority: 16 U.S.C. 1431, et seq.

(Federal Domestic Assistance Catalog Number 11.429 Marine Sanctuary Program)

Dated: June 20, 2006.
Daniel J. Basta,
Director, National Marine Sanctuary Program, National Ocean Services, National Oceanic and Atmospheric Administration.

[FR Doc. 06-5783 Filed 6-28-06; 8:45 am]

BILLING CODE 3510-NK-M